DEPARTMENT OF COMMERCE

National Oceanic and Atmospheric Administration

[I.D. 072403A]

North Pacific Fishery Management Council; Public Meeting

AGENCY: National Marine Fisheries Service (NMFS), National Oceanic and Atmospheric Administration (NOAA), Commerce.

ACTION: Notice of a public meeting.

SUMMARY: The North Pacific Fishery Management Council (Council) Improved Retention/Improved Utilization Technical Committee will meet in Seattle, WA.

DATES: The meetings will be held on August 25, 26, 2003, from 9 a.m. to 5 p.m., and August 27, 2003, from 9 a.m. to noon.

ADDRESSES: The meetings will be held at the Alaska Fisheries Science Center, 7600 Sand Point Way NE, Building 9 (Auditorium), Seattle, WA 98115.

Council address: North Pacific Fishery Management Council, 605 W. 4th Ave., Suite 306, Anchorage, AK 99501-2252.

FOR FURTHER INFORMATION CONTACT: Council staff, Phone: 907-271-2809.

SUPPLEMENTARY INFORMATION: The Committee is scheduled to discuss implementation aspects of a minimum groundfish retention standard, and development of fishery cooperatives, including the following: (1) review action on Amendment C and discuss implementation issues; (2) ID options to achieve pollock maximum retainable bycatch allowance (adjustment) objectives; (3) discuss and develop options for the <125′ Head & Gut boats; and (4) review discussion paper/alternatives/analytical approach for Amendment A and provide recommendations in October.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at 907-271-2809 at least 7 working days prior to the meeting date.

Dated: July 25, 2003.
Richard W. Surdi,
Acting Director, Office of Sustainable Fisheries, National Marine Fisheries Service.

[FR Doc. 03-19517 Filed 7-30-03; 8:45 am]

BILLING CODE 3510-22-S